DEPARTMENT OF STATE

[Public Notice 4840]

United States Climate Change Science Program

ACTION: Request expert review of the Intergovernmental Panel on Climate Change (IPCC) and Technology and Economic Assessment Panel (TEAP) “Special Report on Safeguarding the Ozone Layer and the Global Climate System: Issues Related to Hydrofluorocarbons and Perfluorocarbons” (SROC).

SUMMARY: In addition to periodic assessments of the science, impacts, and socio-economic aspects of climate change, the IPCC provides, on request, advice to the Conference of the Parties to the United Nations Framework Convention on Climate Change (UNFCCC) and its bodies. The Eighth Conference of Parties to the UNFCCC and the Fourteenth Meeting of the Parties to the Montreal Protocol invited the IPCC and TEAP to prepare a special report on ozone and climate by early 2005. The report assesses scientific and technical information relating to decisions and policies on alternatives to ozone-depleting substances, thus contributing to the objectives of both the Montreal Protocol and the UNFCCC. The report covers chemicals in use or likely to be used in the next decade. A Steering Committee from IPCC Working Group I and III and TEAP is overseeing the preparation of this Special Report, which is being written by a team of over 100 authors under established IPCC rules and procedures.

The IPCC Secretariat has informed the U.S. Department of State that the second-order SROC draft is available for expert and Government review. The Climate Change Science Program Office (CCSPO) is coordinating collection of U.S. expert comments and the review of these collations by panels of Federal scientists and program managers to develop a consolidated U.S. Government submission. Instructions on how to format comments are available at http://www.climatescience.gov/Library/ipcc/sroc-review.htm, as is the document itself. Comments must be sent to CCSPO by 2 November 2004 to be considered for inclusion in the U.S. Government collation.

Time and Date: Properly formatted comments should be sent to CCSPO at sroc-USGreview@climatescience.gov by COB Tuesday, 2 November 2004. Include report acronym and reviewer surname in e-mail subject title to facilitate processing.

FOR FURTHER INFORMATION CONTACT: David Dokken, U.S. Climate Change Science Program, Suite 250, 1717 Pennsylvania Ave, NW., Washington, DC 20006 (http://www.climatescience.gov).

Dated: September 22, 2004.
Edward J. Fendley
Office Director, Acting, Office of Global Change, Bureau of Oceans and International Environmental and Scientific Affairs, Department of State.

[FR Doc. 04-21698 Filed 9-28-04; 8:45 am]

BILLING CODE 4710-09-P